DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Region Crab Permits.

OMB Control Number: 0648-0514.

Form Number(s): None.

Type of Request: Regular (extension of a currently approved information collection).

Number of Respondents: 575.

Average Hours per Response: Annual application for Crab IFQ permit, application for Crab IPQ permit, application to become an eligible crab community organization (ECCO), 150 minutes each; application for an Annual Crab Harvesting Cooperative IFQ Permit, 15 hours; Right of first refusal (ROFR) contracts and waivers, 1 hour each; annual application for Crab Converted CPO QS and CPO IFQ and application for Registered Crab Receiver (RCR) Permit, BSAI Crab Rationalization Program Quota Share Beneficiary Designation Form, 30 minutes; application for Crab IFQ Hired Master Permit, 1 hour; application for Federal crab vessel permit (FCVP) 21 minutes each; application for eligibility to receive crab QS/IFQ or PQS/IPQ by transfer, application for transfer of crab IFQ, application for transfer of crab QS/IFQ to or from an ECCO, Application to transfer crab QS or PQS, application for Annual Exemption from Western Aleutian Islands Golden King Crab West Region Delivery Requirements, Community Impact Report or IPQ Holder Report (North or South Response Report), 2 hours each; ECCO Annual report and appeal of denial to NMFS decisions, 4 hours each; application for transfer of IFQ between crab harvesting cooperatives, electronic, 5 minutes, non-electronic, 2 hours; application to Transfer Crab IPQ, electronic, 1 hour; non-electronic, 2 hours; CDQ notification of community representative, 5 hours; application for exemption from CR Crab North or South Region Delivery Requirements and North or South Region Delivery Exemption Report, 20 hours each.

Burden Hours: 3,007.

Needs and Uses: This request is for extension of a currently approved information collection.

The king and Tanner crab fisheries in the exclusive economic zone of the Bering Sea and Aleutian Islands, Alaska, are managed under the Fishery Management Plan for Bering Sea and Aleutian Islands King and Tanner Crabs (FMP). The North Pacific Fishery Management Council prepared the FMP under the Magnuson-Stevens Fishery Conservation and Management Act as amended in 2006. The National Marine Fisheries Service (NMFS) manages the crab fisheries in the waters off the coast of Alaska under the FMP. Regulations implementing the FMP and all amendments to the Crab Rationalization Program (CR Program) appear at 50 CFR part 680. Program details are found at: http://www.alaskafisheries.noaa.gov/regs/680/default.htm.

The CR Program balances the interests of several groups who depend on the crab fisheries. The CR Program addresses conservation and management issues associated with the previous derby fishery, reduces bycatch and associated discard mortality, and increases the safety of crab fishermen by ending the race for fish. Share allocations to harvesters and processors, together with incentives to participate in fishery cooperatives, increases efficiencies, provides economic stability, and facilitates compensated reduction of excess capacities in the harvesting and processing sectors. Community interests are protected by Western Alaska Community Development Quota allocations and regional landing and processing requirements, as well as by several community protection measures.

NMFS established the CR Program as a catch share program for nine crab fisheries in the BSAI, and assigned quota share (QS) to persons and processor quota share (PQS) to processors based on their historic participation in one or more of these nine crab fisheries during a specific period. The CR Program components include QS allocation, PQS allocation, individual fishing quota (IFQ) issuance, and individual processing quota (IPQ) issuance, quota transfers, use caps, crab harvesting cooperatives, protections for Gulf of Alaska groundfish fisheries, arbitration system, monitoring, economic data collection, and cost recovery fee collection.

Affected Public: Business or other for-profit organizations; individuals or households.

Frequency: Annually and on occasion.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: May 8, 2017.
Sarah Brabson,
NOAA PRA Clearance Officer.

[FR Doc. 2017-09569 Filed 5-10-17; 8:45 am]

BILLING CODE 3510-22-P